DEPARTMENT OF ENERGY

Federal Energy Regulatory Commission

[Project No. 12628-002]

The City of Nashua, IA; Notice of Application Tendered for Filing With the Commission, Soliciting Additional Study Requests, and Establishing a Deadline for Submission of Final Amendments

January 26, 2009.

Take notice that the following hydroelectric application has been filed with the Commission and is available for public inspection.

a. Type of Application: Original License.

b. Project No.: 12628-002.

c. Date filed: January 13, 2009.

d. Applicant: The City of Nashua, Iowa.

e. Name of Project: Cedar Lake Dam Hydroelectric Project.

f. Location: The project would be located at the existing Cedar Lake Dam, on the Cedar River, in Chickasaw County, Iowa. The project would not occupy any Federal land.

g. Filed Pursuant to: Federal Power Act 16 U.S.C. 791(a)-825(r).

h. Applicant Contact: Ms. Rebecca Neal, The City of Nashua, 402 Main Street, Nashua, IA 50658; (641) 435-4156.

i. FERC Contact: Michael Watts, Michael.Watts@ferc.gov, (202) 502-6123.

j. Cooperating Agencies: We are asking Federal, State, and local agencies and Indian tribes with jurisdiction and/or special expertise with respect to environmental issues to cooperate with us in the preparation of the environmental document. Agencies who would like to request cooperating status should follow the instructions for filing comments described in item l below. Cooperating agencies should note the Commission's policy that agencies that cooperate in the preparation of the environmental document cannot also intervene. See 94 FERC ¶ 61,076 (2001).

k. Pursuant to Section 4.32(b)(7) of 18 CFR of the Commission's regulations, if any resource agency, Indian tribe, or person believes that an additional scientific study should be conducted in order to form a factual basis for complete analysis of the application on its merits, the resource agency, Indian tribe, or person must file a request for the study with the Commission no later than 60 days from the application filing date, and serve a copy of the request on the applicant.

l. Deadline for filing additional study requests and requests for cooperating agency status: March 16, 2009.

All documents (original and eight copies) should be filed with: Kimberly D. Bose, Secretary, Federal Energy Regulatory Commission, 888 First Street, NE., Washington, DC 20426.

Additional study requests may be filed electronically via the Internet in lieu of paper. The Commission strongly encourages electronic filing. See 18 CFR 385.2001(a)(1)(iii) and the instructions on the Commission's Web site (http://www.ferc.gov) under the “eFiling” link. After logging into the eFiling system, select “Comment on Filing” from the Filing Type Selection screen and continue with the filing process.

m. This application is not ready for environmental analysis at this time.

n. Project Description: The existing dam and integral powerhouse are owned by the City of Nashua (City) and were constructed in 1917 and used for power generation until 1965. The City is proposing to rehabilitate the project and install new turbine generators and associated equipment. The proposed project would consist of: (1) An existing 15.5-foot-high concrete dam with a 258-foot-long spillway equipped with four 6-foot-high taintor gates, a 6-foot-high control gate, and three 4-foot-high flashboards; (2) an existing 405-acre reservoir with a normal full pond elevation of 960.1 feet above mean sea level; (3) an existing 50-foot-wide concrete intake structure connected to; (4) an existing powerhouse to contain four new turbine generating units with a total installed capacity of 800 kilowatts; (5) a new 75-foot-long, 13.8-kilovolts overhead transmission line; and (6) appurtenant facilities. The proposed project would generate an estimated average annual generation of 3,285 megawatt hours.

The project would operate in a run-of-river mode.

o. A copy of the application is on file with the Commission and is available for public inspection. This filing may also be viewed on the Web at http://www.ferc.gov using the “eLibrary” link. Enter the docket number, excluding the last three digits in the docket number filed to access the documents. For assistance, please contact FERC Online Support at FERCOnlineSupport@ferc.gov or toll free at (866) 208-3676 or for TTY, contact (202) 502-8659. A copy is also available for inspection and reproduction at the address in item h above.

p. You may also register online at http://www.ferc.gov/docs-filing/esubscription.asp to be notified via email of new filings and issuances related to this or other pending projects. For assistance, contact FERC Online Support.

q. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA. Staff intends to give at least 30 days for entities to comment on the EA, and will take into consideration all comments received on the EA before final action is taken on the license application.

Issue Acceptance or Deficiency Letter | April 2009.
Issue Scoping Document | May 2009.
Notice of application is ready for environmental analysis | August 2009.
Notice of the availability of the EA | March 2010.

Final amendments: Final amendments to the application must be filed with the Commission no later than 30 days from the issuance date of the notice of ready for environmental analysis.

Kimberly D. Bose,
Secretary.

[FR Doc. E9-2156 Filed 1-30-09; 8:45 am]

BILLING CODE 6717-01-P